DEPARTMENT OF DEFENSE

Department of the Army

[Docket ID USA-2009-0003]

Privacy Act of 1974; System of Records

AGENCY: Department of the Army, DoD.

ACTION: Notice to alter a system of records.

SUMMARY: The Department of the Army is proposing to alter a system of records in its existing inventory of records systems subject to the Privacy Act of 1974, (5 U.S.C. 552a), as amended.

DATES: The proposed action will be effective on March 23, 2009 unless comments are received that would result in a contrary determination.

ADDRESSES: Department of the Army, Privacy Office, U.S. Army Records Management and Declassification Agency, 7701 Telegraph Road, Casey Building, Suite 144, Alexandria, VA 22325-3905.

FOR FURTHER INFORMATION CONTACT: Mr. Robert Dickerson, (703) 428-6513.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on February 11, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 12, 2009.
Morgan E. Frazier,
Alternate OSD Federal Register Liaison Officer, Department of Defense.

A0025-2 SAIS DoD

System name:

Defense Biometric Services (October 15, 2008, 73 FR 61093).

Changes:

* * * * *

Categories of individuals covered by the system:

Delete entry and replace with “Individuals covered include, but are not limited to, members of the U.S. Armed Forces, DoD civilian and contractor personnel, military reserve personnel, Army and Air National Guard personnel, foreign national partners, and other individuals (who are U.S. citizens or aliens lawfully admitted for permanent residence) requiring or requesting employment by DoD and/or access to DoD or DoD controlled information systems and/or DoD or DoD contractor operated or controlled installations and facilities.”

Categories of records in the system:

Delete entry and replace with “Biometrics images; biometric templates; supporting documents; identifying biographic information including, but not limited to, name, Social Security Number (SSN), date of birth, place of birth, height, weight, eye color, hair color, race, globally unique identifier, organization, telephone number, office symbol, clearance, gender, and similar relevant information; and information from and electronic images of international, federal, tribal, or state issued individual identity documents.”

Authority for maintenance of the system:

Delete entry and replace with “10 U.S.C. 113, Secretary of Defense; 10 U.S.C. 3013, Secretary of the Army; 10 U.S.C. 5013, Secretary of the Navy; 10 U.S.C. 8013, Secretary of the Air Force; E.O. 12333, United States Intelligence Activities; E.O. 13467, Reforming Processes Related to Suitability for Government Employment, Fitness for Contractor Employees, and Eligibility for Access to Classified National Security Information; National Defense Authorization Act of 2008, Section 1069; DoDD 8521.01E, Department of Defense Biometrics; DoDD 8500.1, Information Assurance; AR 25-2, Information Assurance and E.O. 9397 (SSN).”

* * * * *

Retrievability:

Delete entry and replace with “Name, Social Security Number (SSN), biometric template, fingerprints, face, iris, DNA and other biometric data.”

* * * * *

Retention and disposal:

Delete entry and replace with “Data is destroyed when superseded or when no longer needed for operational purposes, whichever is later by shredding, pulping, degaussing or erasing.”

System manager(s) and address:

Delete entry and replace with “Director, Biometrics Task Force, 1901 South Bell Street, Suite 900, Arlington, Virginia 22202-4512.”

Notification procedure:

Delete entry and replace with “Individuals seeking to determine whether information about themselves is contained in this system should address written inquiries to Director, Biometrics Task Force, 1901 South Bell Street, Suite 900, Arlington, Virginia 22202-4512.

For verification purposes, individual should provide full name, Social Security Number (SSN), sufficient details to permit locating pertinent records and signature.”

Record access procedures:

Delete entry and replace with “Individuals seeking access to information about themselves contained in this system should address written inquiries to Director, Biometrics Task Force, 1901 South Bell Street, Suite 900, Arlington, Virginia 22202-4512.

For verification purposes, individual should provide full name, Social Security Number (SSN), sufficient details to permit locating pertinent records and signature.”

* * * * *

A0025-2 SAIS DoD

System name:

Defense Biometric Services.

Categories of individuals covered by the system:

Individuals covered include, but are not limited to, members of the U.S. Armed Forces, DoD civilian and contractor personnel, military reserve personnel, Army and Air National Guard personnel, foreign national partners, and other individuals (who are U.S. citizens or aliens lawfully admitted for permanent residence) requiring or requesting employment by DoD and/or access to DoD or DoD controlled information systems and/or DoD or DoD contractor operated or controlled installations and facilities.

Categories of records in the system:

Biometrics images; biometric templates; supporting documents; identifying biographic information including, but not limited to, name, Social Security Number (SSN), date of birth, place of birth, height, weight, eye color, hair color, race, globally unique identifier, organization, telephone number, office symbol, clearance, gender, and similar relevant information; and information from and electronic images of international, federal, tribal, or state issued individual identity documents.

Authority for maintenance of the system:

10 U.S.C. 113, Secretary of Defense; 10 U.S.C. 3013, Secretary of the Army; 10 U.S.C. 5013, Secretary of the Navy; 10 U.S.C. 8013, Secretary of the Air Force; E.O. 12333, United States Intelligence Activities; E.O. 13467, Reforming Processes Related to Suitability for Government Employment, Fitness for Contractor Employees, and Eligibility for Access to Classified National Security Information; National Defense Authorization Act of 2008, Section 1069; DoDD 8521.01E, Department of Defense Biometrics; DoDD 8500.1, Information Assurance; AR 25-2, Information Assurance and E.O. 9397 (SSN).

Purpose(s):

To control logical and physical access to Department of Defense (DoD) and DoD controlled information systems and DoD or DoD contractor operated or controlled installations and facilities and to support the DoD physical and logical security, force protection, identity management, personnel recovery, and information assurance programs, by identifying an individual or verifying/authenticating the identity of an individual through the use of biometrics (i.e., measurable physiological or behavioral characteristics) for purposes of protecting U.S./Coalition/allied government and/or U.S./Coalition/allied national security areas of responsibility and information.

Information assurance purposes include the administration of passwords and identification numbers for operators/users of data in automated media; identifying data processing and communication customers authorized access to or disclosure from data residing in information processing and/or communication activities; and determining the propriety of individual access into the physical data residing in automated media.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, State, tribal, local, or foreign agencies, for the purposes of law enforcement, counterterrorism, immigration management and control, and homeland security as authorized by U.S. Law or Executive Order, or for the purpose of protecting the territory, people, and interests of the United States of America against breaches of security related to DoD controlled information or facilities, and against terrorist activities.

The DoD “Blanket Routine Uses” set forth at the beginning of the Army's compilation of systems of records notices also apply to this system.

Policies and practices for storing, retrieving, accessing, retaining, and disposing of records in the system:

Storage:

Paper records in file folders and electronic storage media.

Retrievability:

Name, Social Security Number (SSN), biometric template, fingerprints, face, iris, DNA and other biometric data.

Safeguards:

Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know.

Retention and disposal:

Data is destroyed when superseded or when no longer needed for operational purposes, whichever is later by shredding, pulping, degaussing or erasing.

System manager(s) and address:

Director, Biometrics Task Force, 1901 South Bell Street, Suite 900, Arlington, Virginia 22202-4512.

Notification procedure:

Individuals seeking to determine whether information about themselves is contained in this system should address written inquiries to Director, Biometrics Task Force, 1901 South Bell Street, Suite 900, Arlington, Virginia 22202-4512.

For verification purposes, individual should provide full name, Social Security Number (SSN), sufficient details to permit locating pertinent records and signature.

Record access procedures:

Individuals seeking access to information about themselves contained in this system should address written inquiries to Director, Biometrics Task Force, 1901 South Bell Street, Suite 900, Arlington, Virginia 22202-4512.

For verification purposes, individual should provide full name, Social Security Number (SSN), sufficient details to permit locating pertinent records and signature.

Contesting record procedures:

The Army's rules for accessing records, and for contesting contents and appealing initial agency determinations are contained in Army Regulation 340-21; 32 CFR part 505; or may be obtained from the system manager.

Record source categories:

From the individual, DoD security offices, system managers, computer facility managers, automated interfaces for user codes on file at Department of Defense sites.

Exemptions claimed for the system:

None.

[FR Doc. E9-3513 Filed 2-18-09; 8:45 am]

BILLING CODE 5001-06-P